DEPARTMENT OF TRANSPORTATION

National Highway Traffic Safety Administration

[Docket No. NHTSA 2007-27437; Notice 2]

Grote Industries, LLC; Grant of Petition for Decision of Inconsequential Noncompliance

Grote Industries, LLC (Grote) has determined that the amber reflex reflectors on certain trucks manufactured between 2004 through 2007 do not comply with S5.1.5 of 49 CFR 571.108, Federal Motor Vehicle Safety Standard (FMVSS) No. 108, “Lamps, reflective devices, and associated equipment.” Grote has filed an appropriate report pursuant to 49 CFR Part 573, “Defect and Noncompliance Responsibility and Reports.” Pursuant to 49 U.S.C. 30118(d) and 30120(h), Grote also has petitioned for a determination that this noncompliance is inconsequential to motor vehicle safety. Notice of receipt of a petition was published, with a 30-day public comment period, on April 9, 2007 in the Federal Register (72 FR 17608). The National Highway Traffic Safety Administration (NHTSA) received no comments. To view the petition and all supporting documents, go to: http://dms.dot.gov/search/searchFormSimple.cfm and enter Docket No. NHTSA-2007-27437.

For further information on this decision, contact Mr. Michael Cole, Office of Vehicle Safety Compliance, NHTSA, telephone (202) 366-2334 or facsimile (202) 366-7002.

Affected are approximately 137,050 reflex reflectors that have been sold for installation as original equipment on trucks and were manufactured between December 28, 2004 and January 22, 2007. S5.1.5 of FMVSS No. 108 requires:

The color in all lamps, reflective devices, and associated equipment to which this standard applies shall comply with SAE Standard J578c, Color Specification for Electric Signal Lighting Devices, February 1977.

The reflex reflectors do not contain the correct reflective material required to meet the requirements of S5.1.5. Grote claims that it has corrected the problem that caused this error so that it will not be repeated in future production. Grote believes that the noncompliance is inconsequential to motor vehicle safety and that no corrective action is warranted.

Grote stated that this noncompliance pertains solely to the failure of these reflex reflectors to meet the applicable color requirements. The subject reflex reflectors were manufactured for Grote by a third-party supplier. The third-party supplier incorporated reflective tape that it purchased from a reflective material supplier. Based on the results of tests conducted for Grote, Grote believes the intermediate supplier had been using retroreflective tape that was manufactured to the specification for “selective yellow,” instead of the correct specification for “amber,” as set forth in the SAE J578c requirement. The intermediate supplier was operating under a certification letter from the reflective material supplier, which erroneously listed the material as compliant.

Grote believes the failure of these reflex reflectors to meet the color specification does not reduce their effectiveness in providing proper visibility to allow identification of the front and (where applicable) intermediate side points of a vehicle. Grote believes the difference between compliant amber reflex reflectors and the subject noncompliant selective yellow colored reflex reflectors is barely discernible to the naked eye when reflected with “Illuminant A” light under conditions of ambient darkness. Grote further stated that such conditions are intended to imitate nighttime driving conditions when reflex reflectors serve their primary purpose.

NHTSA Decision

The following explains our rationale.

NHTSA has found that reflex reflectors make the side of a vehicle visible to drivers of other vehicles at night and at other times when there is reduced ambient light including dawn and dusk. The advance warning provided by the reflex reflectors has the potential to enable drivers to avoid a collision when approaching one another at an angle. The purpose of making the front reflex reflector amber and the rear reflex reflector red is to reveal a vehicle's direction of travel.¹

¹ An Evaluation of Side Marker Lamps for Cars, Trucks and Buses, July 1983, DOT HS-606-430.

As part of its reasoning, Grote stated that while the reflex reflectors do not meet the applicable color provision, incorporated in FMVSS No. 108 by reference to SAE J578c, 1977, they do satisfy the color requirements of a later version of this SAE standard. While compliance with any version other than SAE J578c cannot be substituted as proof of conformity, NHTSA believes the subject reflex reflectors would be perceived to emit a yellow color light and would not cause confusion to motorists regarding the intended safety purposes for which amber reflex reflectors are required. In addition, Grote provided test data to demonstrate that the reflex reflectors satisfy the reflectivity requirements specified in SAE J594f, which are also incorporated by reference in FMVSS No. 108. Based on these factors, we believe the subject noncompliance would not cause a significant safety risk to motorists.

NHTSA agrees with Grote that the noncompliance is inconsequential to motor vehicle safety because the nonconforming yellow reflex reflectors are easily distinguished from conforming red reflex reflectors thereby allowing recognition of the vehicle direction of travel.

In consideration of the foregoing, NHTSA has decided that Grote has met its burden of persuasion that the noncompliance described is inconsequential to motor vehicle safety. Accordingly, Grote's petition is granted and the petitioner is exempted from the obligation of providing notification of, and a remedy for, the noncompliance.

Authority: 49 U.S.C. 30118, 30120; delegations of authority at 49 CFR 1.50 and 501.8.

Issued on: August 6, 2007.
Daniel C. Smith,
Associate Administrator for Enforcement.

[FR Doc. E7-15613 Filed 8-9-07; 8:45 am]

BILLING CODE 4910-59-P